FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

ABC Depot, Inc., 1628 N. Indiana Street, Los Angeles, CA 90063.Officers: Jin Feng Chen, Secretary/CFO, (Qualifying Individual); Shiqiang Xu, President

Associated Container Lines (USA), LLC, 3245 Benchmark Drive, Ladson, SC 29456. Officers: Roger H. Botting, Managing Partner, (Qualifying Individual); Regina J. Botting, Partner

Jobox Unizoom, Inc., 760 Market Street, Suite 748, San Francisco, CA 94102. Officers: Roberto P. Castro, Corporate Secretary, (Qualifying Individual); Jocelyn P. Rolf-Harris, Chairman/President

M Star International Corp., 430 W. Merrick Rd., Suite Q, Valley Stream, NY 11580. Officer: Sam Yee, President, (Qualifying Individual)

Seatrans Logistics Inc., 18504 8th Avenue, Shoreline, WA 98155. Officers: Chen Guang Yao, Director, (Qualifying Individual); Zheng Shi, President

State Street Shipping Agency Inc., One Saint Louis Centre, Suite #3002, Mobile, AL 36602. Officers: Hans Modsen, Asst Secretary, (Qualifying Individual); H.W. Thurber, III, President

Non-Vessel Operating Common Carrier and Ocean Freight Forwarder Transportation Intermediary Applicants:

Trico Forwarding-USA, Inc., 250 E. Manville Street, Compton, CA 90220. Officer: Angie Park, Sales and Traffic Manager, (Qualifying Individual)

Delmar Logistics (IL) Inc., 1000 Tower Lane, Bensenville, IL 60617. Officers: Robert Iny, Vice President, (Qualifying Individual); William Julich, President

DeWitt Companies, Ltd., LLC, 9089 Clairmont Mesa Blvd., Suite 301, San Diego, CA 92123. Officers: Alan Patrick Meyer, Vice President, (Qualifying Individual); John Burrows, President

Ocean Freight Forwarder—Ocean Transportation Intermediary Applicants:

Atlas International Freight Forwarding (USA) Inc. dba Atlas Cargo, 6172 N.W. 74th Avenue, Miami, FL 33166. Officer: Ken Palermo, Director, (Qualifying Individual)

M.O.T. Intermodal Shipping (NY) Inc., 1200-A Scottsville Road, Rochester, NY 14624. Officers: Danielle M. Hogancamp, Vice President, (Qualifying Individual); Ole Enderslev, President

BF Packing Corp., 4612 NW 74th Avenue, Miami, FL 33166. Officers: Tatiana M. Perez, Vice President, (Qualifying Individual); Jorge A. Perez, President

Dated: April 25, 2003.
Bryant L. VanBrakle,
Secretary.

[FR Doc. 03-10680 Filed 4-29-03; 8:45 am]

BILLING CODE 6730-01-P